DEPARTMENT OF ENERGY

Federal Energy Regulatory Commission

Combined Notice of Filings #1

Take notice that the Commission received the following exempt wholesale generator filings:

Docket Numbers: EG20-183-000.

Applicants: Aviator Wind, LLC.

Description: Aviator Wind, LLC Submits EWG Self-Certification.

Filed Date: 6/11/20.

Accession Number: 20200611-5041.

Comments Due: 5 p.m. ET 7/2/20.

Take notice that the Commission received the following electric rate filings:

Docket Numbers: ER20-1281-001.

Applicants: California Independent System Operator Corporation.

Description: Compliance filing: 2020-06-10 Compliance Filing in Docket No. ER20-1281 to be effective 1/28/2020.

Filed Date: 6/10/20.

Accession Number: 20200610-5139.

Comments Due: 5 p.m. ET 7/1/20.

Docket Numbers: ER20-1656-001.

Applicants: MidAmerican Energy Company.

Description: Tariff Amendment: Joint Pricing Zone Revenue Allocation Agt-3rd Rev (Amended) to be effective 6/1/2020.

Filed Date: 6/10/20.

Accession Number: 20200610-5187.

Comments Due: 5 p.m. ET 7/1/20.

Docket Numbers: ER20-2028-000.

Applicants: Bitter Ridge Wind Farm, LLC.

Description: Baseline eTariff Filing: Application for Market-Based Rate Authority to be effective 7/1/2020.

Filed Date: 6/11/20.

Accession Number: 20200611-5002.

Comments Due: 5 p.m. ET 7/2/20.

Docket Numbers: ER20-2029-000.

Applicants: Midcontinent Independent System Operator, Inc.

Description: Section 205(d) Rate Filing: 2020-06-11_SA 3501 METC-MEC North GIA (J937) to be effective 5/29/2020.

Filed Date: 6/11/20.

Accession Number: 20200611-5017.

Comments Due: 5 p.m. ET 7/2/20.

Docket Numbers: ER20-2030-000; TS20-5-000.

Applicants: Altavista Solar, LLC.

Description: Petition for Waiver of Open-Access Requirements of Order Nos. 888, et al. of Altavista Solar, LLC.

Filed Date: 6/10/20.

Accession Number: 20200610-5209.

Comments Due: 5 p.m. ET 7/1/20.

Docket Numbers: ER20-2031-000.

Applicants: Mission Solar, LLC.

Description: Appeal and Protest of Mission Solar, LLC.

Filed Date: 6/8/20.

Accession Number: 20200608-5240.

Comments Due: 5 p.m. ET 6/29/20.

Docket Numbers: ER20-2032-000.

Applicants: Hardin Wind, LLC.

Description: Baseline eTariff Filing: Application for Market-Based Rate Authorization Pursuant to Section 205 to be effective 8/10/2020.

Filed Date: 6/11/20.

Accession Number: 20200611-5096.

Comments Due: 5 p.m. ET 7/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2020.
Nathaniel J. Davis, Sr.,
Deputy Secretary.

[FR Doc. 2020-13019 Filed 6-16-20; 8:45 am]

BILLING CODE 6717-01-P